DEPARTMENT OF JUSTICE

Notice of Lodging of Consent Decree, Pursuant to the Comprehensive Environmental Response, Compensation, and Liability Act (“CERCLA”)

Under 28 CFR 50.7 notice is hereby given that on December 10, 2003, a proposed consent decree in United States v. The City of Corpus Christi, Civil Action No. C-03-015, has been lodged with the United States District Court for the Southern District of Texas, Corpus Christi Division. The consent decree settles an action brought under section 107 of the Comprehensive Environmental Response, Compensation, and Liability Act (“CERCLA”), 42 U.S.C. 9607, for reimbursement of response costs incurred by the United States in responding to releases and threats of releases of hazardous substances from the J.C. Elliot Municipal Landfill Site located in Corpus Christi, Texas. Under the terms of the Consent Decree, the City of Corpus Christi has agreed to reimburse response costs incurred by the United States in the amount of $600,000.

For a period of thirty (30) days from the date of this publication, the Department of Justice will receive written comments relating to the proposed consent decree from persons who are not parties to the action. Comments should be addressed to the Assistant Attorney General, Environment and Natural Resources Division, U.S. Department of Justice, P.O. Box 7611, Washington, DC 20044-7611, and should refer to United States v. The City of Corpus Christi, DOJ #90-11-3-07835.

The proposed consent decree may be examined at the offices of the United States Attorney for the Southern District of Texas, Corpus Christi Division, 800 N. Shoreline, Suite 500 Corpus Christi, Texas 78401, and at the office of the United States Environmental Protection Agency, Region VI, 1445 Ross Avenue, Dallas, Texas 75202 (Attention: I-Jung Chiang, Assistant Regional Counsel). During the public comment period, the proposed consent decree may also be examined by the following Department of Justice Web site, http://www.usdoj.gov/enrd/open.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy exclusive of exhibits, please enclose a check in the amount of $4.25 (25 cents per page reproduction cost without exhibits) payable to the U.S. Treasury.

Catherine McCabe,
Deputy Chief, Environmental Enforcement Section, Environment and Natural Resources Division.

[FR Doc. 03-32291 Filed 12-31-03; 8:45 am]

BILLING CODE 4410-15-M